NUCLEAR REGULATORY COMMISSION

[Docket No. 50-293]

Entergy Nuclear Generation Company, Entergy Nuclear Operations, Inc.; Notice of Withdrawal of Application for Amendment to Facility Operating License

The U.S. Nuclear Regulatory Commission (the Commission or NRC) has granted the request of Entergy Nuclear Operations, Inc. (ENO or the licensee) to withdraw its January 16, 2004, application for a proposed amendment to Facility Operating License No. DPR-35 for the Pilgrim Nuclear Power Station, located in Plymouth County, Massachusetts. ENO supplemented its application by letter dated February 25, 2004.

The proposed amendment requested approval of an engineering evaluation performed in accordance with facility Technical Specification (TS) 3.6.D.3 to justify continued power operation with safety relief valve (SRV)—3A and SRV—3D discharge pipe temperatures exceeding 212 degrees Fahrenheit for greater than 24 hours as required by TS 3.6.D.4.

The Commission had previously issued a Notice of Consideration of Issuance of Amendment published in the Federal Register on February 17, 2004 (69 FR 7522). However, by letter dated March 26, 2004, the licensee withdrew the request.

For further details with respect to this action, see the application for amendment dated January 16, 2004, as supplemented by letter dated February 25, 2004, and the licensee's letter dated March 26, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams.html. Persons who do not have access to ADAMS or who encounter problems in accessing the documents located in ADAMS, should contact the NRC's PDR Reference staff by telephone at 1-800-397-4209, or 301-415-4737 or by e-mail to pdr@nrc.gov.

Dated at Rockville, Maryland, this 26th day of April, 2004.
For the Nuclear Regulatory Commission.
Travis L. Tate,
Project Manager, Section 2, Project Directorate I, Division of Licensing Project Management, Office of Nuclear Reactor Regulation.

[FR Doc. 04-10161 Filed 5-4-04; 8:45 am]

BILLING CODE 7590-01-P